DEPARTMENT OF VETERANS AFFAIRS

Enhanced-Use Lease Development of Property at the Department of Veterans Affairs Medical Center, Dayton, OH

AGENCY: Department of Veterans Affairs.

ACTION: Notice of intent to designate.

SUMMARY: The Secretary of the Department of Veterans Affairs (VA) intends to designate Building 401 (23,600 square feet), with an abutting playground (11,500 square feet) at the Department of Veterans Affairs Medical Center, Dayton, Ohio, for an enhanced-use lease. The Department intends to enter into a 35-year lease of real property with a selected lessee/developer who would be responsible for all costs and risks associated with the design, development, renovation, expansion, operation, maintenance, and provision of services at an existing non-profit child care center.

FOR FURTHER INFORMATION CONTACT: Vanessa Chambers, Capital Asset Management and Planning Service (182C), Department of Veterans Affairs, 810 Vermont Avenue, NW., Washington, DC 20420, (202) 565-6554.

SUPPLEMENTARY INFORMATION: 38 U.S.C. 8161, et seq. specifically provides that the Secretary may enter into an enhanced-use lease if he determines that at least part of the use of the property under the lease will be to provide appropriate space for an activity contributing to the mission of the Department; the lease will not be inconsistent with and will not adversely affect the mission of the Department; and the lease will enhance the property or result in improved services to veterans. This project meets these requirements.

Approved: November 26, 2003.
Anthony J. Principi,
Secretary of Veterans Affairs.

[FR Doc. 03-30226 Filed 12-4-03; 8:45 am]

BILLING CODE 8320-01-P